FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of Section 3, Public Law 89-777

(46 App. U.S.C. 817 (e)) and the Federal Maritime Commission's implementing regulations at 46 CFR part 540, as amended:

Delta Queen Steamboat Company, Inc. and American Queen Steamboat, LLC

1380 Port of New Orleans Place

New Orleans, LA 70130

Vessel: American Queen

Delta Queen Steamboat Company, Inc. and Delta Queen Steamboat, LLC

1380 Port of New Orleans Place

New Orleans, LA 70130

Vessel: Delta Queen

Delta Queen Steamboat Company, Inc. and Mississippi Queen Steamboat, LLC

1380 Port of New Orleans Place

New Orleans, LA 70130

Vessel: Mississippi Queen

Glacier Bay Park Concessions, Inc. (d/b/a Glacier Bay Cruises) and Glacier Bay Marine Services, Inc.

107 W. Denny Way, Suite 303

Seattle, WA 98119

Vessels: Wilderness Adventurer and Wilderness Discoverer

Holland America Line Inc. (d/b/a Holland America Line), Holland America Line N.V., and HAL Antillen N.V.

300 Elliott Avenue West

Seattle, WA 98119

Vessel: Zuiderdam

Magic Cruise Line Services Co. (d/b/a Magic Cruise Line)

c/o Fowler White Burnett P.A.

Bank of America Tower, 17th Floor

100 Southeast Second Street

Miami, FL 33131

Vessel: Magic I

Norwegian Cruise Line Limited (d/b/a Orient Lines)

7665 Corporate Center Drive

Miami, FL 33126

Vessel: Marco Polo

P & O Princess Cruises International Limited and Princess Cruise Lines, Ltd.

Richmond House, Terminus Terrace

Southampton SO14 3PN

United Kingdom

Vessel: Adonia

Princess Cruise Lines, Ltd., P & O Princess Cruises International Limited and P & O Princess Cruises plc

24305 Town Center Drive

Santa Clarita, CA 91355-4999

Vessel: Pacific Princess

RCL (UK) Ltd. (d/b/a Royal Caribbean International)

Royal Caribbean House

Addlestone Road

Weybridge, Surrey KT15 2LLE

England

Vessel: Brilliance of the Seas

Royal Caribbean Cruises Ltd. (d/b/a Royal Caribbean International)

1050 Caribbean Way

Miami, FL 33132-2096

Vessels: Jewel of the Seas, Mariner of the Seas Navigator of the Seas and Serenade of the Seas

Royal Olympic Cruises Ltd

805 3rd Avenue, 18th Floor

New York, NY 10022

Vessels: Olympia Explorer and Lympia Voyager

Silversea Cruises, Ltd. and Silver Cloud Shipping Company S.A.

110 East Broward Blvd.

Fort Lauderdale, FL 33301

Vessel: Silver Cloud

Dated: December 13, 2002.
Bryant L. VanBrakle,
Secretary.

[FR Doc. 02-31879 Filed 12-17-02; 8:45 am]

BILLING CODE 6730-01-P